CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, will submit the following public information collection request (ICR) to the Office of Management and Budget (OMB) for review and approval in accordance with the Paperwork Reduction Act of 1995 (Pub. L. 104-13, (44 U.S.C. Chapter 35)). This program helps to ensure that requested data can be provided in the desired format, reporting burden (time and financial resources) is minimized, collection instruments are clearly understood, and the impact of collection requirement on respondents can be properly assessed.

Currently, the Corporation is soliciting comments concerning its proposed data collection instrument entitled: Field Network Pilot Study VISTA Cost Sharing Report Form and Survey. The information will be used by the Corporation's VISTA program to improve its understanding of the factors that determine cost sharing among VISTA sponsor organizations. The goal is to develop more effective strategies for encouraging cost sharing arrangements among VISTA sponsor organizations.

Copies of the information collection request can be obtained by contacting the office listed below in the ADDRESSES section of this notice. Individuals who use a telecommunications device for the deaf (TTY-TDD) may call (202) 565-2799 between 8:30 a.m. and 5 p.m. Eastern time, Monday through Friday.

DATES: Written comments must be submitted to the office listed in the ADDRESSES section by January 24, 2006.

ADDRESSES: You may submit comments, identified by the title of the information collection activity, by any of the following methods:

(1) By mail sent to: Corporation for National and Community Service, Attn: John Foster-Bey, Department of Research and Policy Development, Rm 10911, 1201 New York Avenue, NW., Washington, DC 20525.

(2) By hand delivery or by courier to the Corporation's mailroom, Room 8100, at the mail address given in paragraph (1) above, between 9 a.m. and 4 p.m., Monday through Friday, except Federal holidays.

(3) By fax to: 202-606-3464, Attn: John Foster-Bey, Senior Advisor to Director for Research and Policy Development.

(4) Electronically through the Corporation's e-mail address system: jfosterbey@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Propose ways to minimize the burden of the collection of information to those who are to respond, including through the use of appropriate automated, electronic, mechanical, or other technological collection techniques or other forms of information technology, e.g. permitting electronic submissions of responses.

Background

The Corporation has contracted with the Nelson A. Rockefeller Institute of Government to carry out a Field Network Pilot Study to analyze the potential for increasing the number of VISTA cost-share members. The Pilot Study will consider the implications of such expansion for the organizations where VISTA members serve (hereinafter “sponsors”), given the Corporation's commitment to serve communities in need.

The Field Network Pilot Study VISTA Cost-Sharing Report Form and Survey will be used to assess the reasons why some sponsors cost-share and others do not; the effects of cost-sharing on sponsors; the potential for sponsors who are not currently cost-sharing to do so successfully in the future; current and potential sources of cost-share funds; and what actions the Corporation should take to help sponsors cost-share. Independent, local field researchers will be employed in collecting the information. During the data-gathering phase the researchers will refer to background information about the Corporation, the VISTA program, and the Field Network method.

Type of Review: New collection.

Agency: Corporation for National and Community Service.

Title: Field Network Pilot Study VISTA Cost Sharing Report Form and Survey.

OMB Number: None.

Agency Number: None.

Affected Public: Not-for-profit institutions; State, local, or tribal governments.

Total Respondents: 1450.

Frequency: Annually.

Average Time per Response: 1 hour.

Estimated Total Burden Hours: 1450 hours.

Total Burden Cost (capital/startup): None.

Total Burden Cost (operating/maintenance): None.

Comments submitted in response to this notice will be summarized and/or included in the request for Office of Management and Budget approval of the information collection request; they will also become a matter of public record.

Robert Grimm,
Director, Department of Research and Policy Development.

[FR Doc. 05-23245 Filed 11-23-05; 8:45 am]

BILLING CODE 6050-$$-P